DEPARTMENT OF LABOR

Occupational Safety and Health Administration

Susan Harwood Training Grant Program

AGENCY: Occupational Safety and Health Administration (OSHA), Labor.

ACTION: Notice of availability of funds and request for grant applications.

SUMMARY: The Occupational Safety and Health Administration (OSHA) awards funds to nonprofit organizations to conduct safety and health training and education in the workplace. This notice announces grant availability for two different types of Susan Harwood Training Grants. Strategic Plan Grants support training in occupational safety and health programs for several different industries targeted in OSHA's Strategic Plan. Institutional Competency Building Grants assist organizations to develop their occupational safety and health training, education and related assistance capacity over a three-to-five year competency building period. The two types of grants are described below.

1. Strategic Plan Grants

Grants are available for training in safety and health programs for several industries targeted in OSHA's Strategic Plan. The targeted industries for this year's competition are: construction, including residential construction; food processing (SIC 20); and nursing homes (SIC 8051/8052).

These grants are awarded for a 12-month period. If first year performance is satisfactory and funds are available, grants will be renewed for an additional twelve-month period. There is approximately $2.7 million available for Strategic Plan Grants. The average Federal award will be $150,000. A non-Federal matching share of 20% is required.

2. Institutional Competency Building Grants

Grants are available to nonprofit organizations to assist them in developing and/or expanding their safety and health training, education and related assistance capacity over a three-to-five year competency building period. To be eligible to apply for this grant program, organizations must serve clients nationally or in multi-state areas, and provide or plan to provide safety and health training, education and services to their clients. Preference will be given to organizations that propose to reach and serve one or more categories of workers within the target audience. The target audience includes vulnerable workers, small business employers and employees, and workers who are employed in high hazard industries and in industries affected by new OSHA standards. Organizations will be expected to institutionalize safety and health training, education, and related assistance in their organization in order to assist these workers on an ongoing basis.

Institutional Competency Building Grants will be awarded for up to five years. Annual funding will be dependent on satisfactory performance and the availability of funds. There is approximately $3 million available for this program and an average Federal award will be $250,000. A minimum non-Federal matching share of 10% is required for the first year of the grant. The required non-Federal matching share will be increased by 5% each subsequent year of the grant.

The notice describes the scope of the grant program and provides information about how to get detailed grant application instructions. Applications should not be submitted without the applicant first obtaining the detailed grant application instructions mentioned later in the notice. Separate grant applications must be submitted by organizations interested in applying for more than one grant topic or type of grant.

Section 21(c) of the Occupational Safety and Health Act of 1970 (29 U.S.C. 670) authorizes this program.

DATES: Applications must be received by May 19, 2000.

ADDRESSES: Submit grant applications to the OSHA Office of Training and Education, Division of Training and Educational Programs, 1555 Times Drive, Des Plaines, Illinois 60018.

FOR FURTHER INFORMATION CONTACT: Ronald Mouw, Chief, Division of Training and Educational Programs, or Cynthia Bencheck, Program Analyst, OSHA Office of Training and Education, 1555 Times Drive, Des Plaines, Illinois 60018, telephone (847) 297-4810, e-mail cindy.bencheck@osha.gov.

SUPPLEMENTARY INFORMATION:

What Is the Purpose of the Harwood Training Grant Program?

OSHA's Strategic Plan contains strategic goals to improve workplace safety and health for all workers, change the workplace culture to increase employer and worker awareness of, commitment to, and involvement in safety and health, and to secure public confidence through excellence in the development and delivery of OSHA's programs and services. OSHA's intent is to reduce the number of worker injuries, illnesses and fatalities by focusing nationwide attention and Agency resources on the most prevalent types of workplace injuries and illnesses, the most hazardous industries, and the most hazardous workplaces. The Susan Harwood Training Grants Program is one of the mechanisms OSHA is using to achieve its strategic goals.

Information about OSHA's Strategic Plan is available on OSHA's web site at www.osha.gov in the About OSHA category. OSHA has selected Food Processing, Nursing Homes, Logging, Shipyards and Construction as the five industries it will focus its attention on during the performance period of the Strategic Plan. The three injuries/illnesses OSHA has targeted for reduction are amputations, lead exposures, and silica exposures.

Susan Harwood Training Grants provide funds to train workers and employers to recognize, avoid, and prevent safety and health hazards in their workplaces. The program emphasizes three areas.

• Educating workers and employers in small businesses. A small business has 250 or fewer workers.

• Training workers and employers about new OSHA standards.

• Training workers and employers about high risk activities or hazards identified by OSHA through its Strategic Plan, or as part of an OSHA special emphasis program.

Grantees are expected to provide occupational safety and health services, develop safety and health training and/or educational programs, recruit workers and employers for the training, and conduct the training. Grantees are also expected to follow up with people trained by their program to determine what, if any, changes were made to reduce hazards in their workplaces as a result of the training.

What Are the Two Grant Categories This Year?

1. Strategic Plan Grants.

2. Institutional Competency Building Grants.

What Are the Training Topics for the Strategic Plan Grants?

Grant funds are available for Strategic Plan Grants to fund training addressing hazards in three industries. The three selected industries were chosen based on injuries and illnesses as identified in OSHA's Strategic Plan. Each grant application must address one of the following areas.

1. Construction, including residential construction. Programs that train workers and employers in the recognition and avoidance of construction hazards, especially those most frequently involved in construction fatalities (falls, struck-by, crushed-by, and electrocutions and electrical injuries). Applications that propose training and education programs addressing ergonomic hazards and abatement for the construction industry will also be eligible for consideration.

2. Food Processing, Standard Industrial Code (SIC) 20. Programs that train workers and employers in the recognition and prevention of safety and health hazards in the food processing industry. Preference will be given to programs that target workers in the food processing operations of canning, packaging, freezing, and chopping produce (SIC 203), bakery products (SIC 205) and beverages (SIC 208).

3. Nursing Homes, Standard Industrial Code (SIC) 8051/8052. Programs that train workers and employers in the recognition and prevention of safety and health hazards in nursing homes, especially ergonomic hazards.

What Are the Requirements for the Institutional Competency Building Grants?

Nonprofit organizations that serve clients nationally or in multi-state areas and provide or plan to provide safety and health training, education and services may apply for these competency building grants. Preference will be given to organizations that can reach and serve one or more categories of workers within the target audience. The target audience includes vulnerable workers, small business employers and employees, and workers who are employed in high hazard industries and in industries affected by new OSHA standards.

Institutional Competency Building Grants may be funded for project periods of up to five years. Grant applicants must indicate the number of years, typically three-to-five, needed to fully integrate safety and health services into their organizations. Grantee organizations will be expected to establish or expand the occupational safety and health training, education and related assistance they provide to their clients. Grantees will be expected to follow up with people trained by their program to determine what, if any, changes were made to reduce hazards in their workplaces as a result of the training. Organizations also will be expected to institutionalize safety and health training, education and related services in their organizations in order to assist workers on an ongoing basis and to ensure that the services will continue after the grant ends.

Grant applicants must provide a detailed budget and workplan describing planned activities for the first year of their competency building grant. A summary plan outlining the future development of their safety and health program must be provided as a part of the original application. The summary plan must clearly indicate the number of years, typically three-to-five, the organization will require grant funds in order to institutionalize safety and health services into its organization as well as proposed grant goals and activities for each year. To be eligible to apply, organization must meet the following criteria.

• Organizations must be nonprofit and serve workers nationally or in multi-state areas.

• Organizations must provide or plan to provide safety and health training, education and services to workers. Preference will be given to organizations that propose to reach and serve workers from one or more of the following groups.

a. Vulnerable workers: entry-level workers, immigrants, migrants, non-English speaking workers, illiterate workers, and recently employed inner city youth.

b. Small business employers and employees. A small business has 250 or fewer workers.

c. Workers who are employed in jobs with high risk activities or hazards or who are affected by new OSHA standards.

Applicants may propose safety and health topics for their programs that will meet the needs of their target audience. However, preference will be given to applicants that propose programs addressing one or more of OSHA's Strategic Plan topics, or other agency priorities, such as ergonomics.

Organizations should develop relationships with OSHA Area Offices, Committees on Occupational Safety and Health (COSH), and other appropriate agencies that can assist workers with safety and health problems. Applicants should describe how they will reach their target audience, their expertise in serving that audience, and how they will tailor their programs to meet the needs of their workers. Organizations should also tell us how they plan to conduct a follow-up evaluation with people trained by their program to determine what, if any, changes were made to reduce hazards in their workplaces as a result of the training.

Who Is Eligible To Apply for a Grant?

Any nonprofit organization is eligible to apply. State or local government supported institutions of higher education are eligible to apply in accordance with 29 CFR 97.4(a)(1).

Applicants other than State or local government supported institutions of higher education will be required to submit evidence of nonprofit status, preferably from the Internal Revenue Service (IRS).

What Can Grant Funds Be Spent On?

Grant funds can be spent on the following.

• Conducting training.

• Conducting other activities that reach and inform workers and employers about occupational safety and health hazards and hazard abatement.

• Developing educational materials for use in the training.

Are There Restrictions on How Grant Funds Can Be Spent?

OSHA will not provide funding for the following activities.

1. Any activity that is inconsistent with the goals and objectives of the Occupational Safety and Health Act of 1970.

2. Training involving workplaces that are not covered by the Occupational Safety and Health Act. Examples include State and local government workers in non-State Plan States and workers covered by section 4(b)(1) of the Act.

3. Production, publication, reproduction or use of training and educational materials, including newsletters and instructional programs, that have not been reviewed by OSHA for technical accuracy.

4. Activities that address issues other than recognition, avoidance, and prevention of unsafe or unhealthy working conditions. Examples include workers' compensation, first aid, and publication of materials prejudicial to labor or management.

5. Activities that provide assistance to workers in arbitration cases or other actions against employers, or that provide assistance to employers and/or workers in the prosecution of claims against Federal, State or local governments.

6. Activities that directly duplicate services offered by OSHA, a State under an OSHA-approved State Plan, or consultation programs provided by State designated agencies under section 21(d) of the Occupational Safety and Health Act.

7. Activities intended to generate membership in the grantee's organization. This includes activities to acquaint nonmembers with the benefits of membership, inclusion of membership appeals in materials produced with grant funds, and membership drives.

What Other Grant Requirements Are There?

1. OSHA review of educational materials. OSHA will review all educational materials produced by the grantee for technical accuracy during development and before final publication. OSHA will also review training curricula and purchased training materials for accuracy before they are used.

When grant recipients produce training materials, they must provide copies of completed materials to OSHA before the end of the grant period. OSHA has a lending program that circulates grant-produced audiovisual materials. Audiovisual materials produced by the grantee as a part of its grant program will be included in this lending program. In addition, all materials produced by grantees may be placed on the Internet by OSHA.

2. OMB and regulatory requirements. Grantees are required to comply with the following documents.

• 29 CFR part 95, which covers grant requirements for nonprofit organizations, including universities and hospitals. These are the Department of Labor regulations implementing OMB Circular A-110.

• OMB Circular A-21, which describes allowable and unallowable costs for educational institutions.

• OMB Circular A-122, which describes allowable and unallowable costs for other nonprofit organizations.

• OMB Circular A-133, which provides information about audit requirements.

3. Certifications. All applicants are required to certify to a drug-free workplace in accordance with 29 CFR part 98, to comply with the New Restrictions on Lobbying published at 29 CFR part 93, to make a certification regarding the debarment rules at 29 CFR part 98, and to complete a special lobbying certification.

4. Matching share. The program requires the grantee to provide a matching share of funds. The matching share requirements are different for the two grant programs being announced. The requirements are listed below.

• Strategic Plan Grants. Grant recipients must provide a minimum of 20% of the total grant budget. This matching share may be in-kind, rather than a cash contribution, or a combination of cash and in-kind. For example, if the Federal share of the grant is $80,000 (80% of the grant), then the matching share will be $20,000 (20% of the grant), for a total grant of $100,000. The matching share may exceed 20%.

• Institutional Competency Building Grants. Grant recipients must provide a minimum of 10% of the total grant budget in the first year of the grant. This matching share may be in-kind, rather than a cash contribution, or a combination of cash and in-kind. For example, if the Federal share of the grant is $180,000 (90% of the grant), then the matching share will be $20,000 (10% of the grant), for a total grant of $200,000. The first year matching share may exceed 10%.

Grant recipients will be required to increase their non-Federal matching share by at least 5% each subsequent year of the grant. Competency building grant funding will be provided for up to five years. For example, if the grant recipient requests three years for a competency building grant, the non-Federal matching share minimum is 10% the first year, 15% the second year, and 20% the third year of the grant.

5. Other. In compliance with the President's Executive Orders 12876, 12900, 12928, and 13021, the grantee is strongly encouraged to provide subgranting opportunities to Historically Black Colleges and Universities, Hispanic Serving Institutions and Tribal Colleges and Universities.

How Are Applications Reviewed and Rated?

OSHA staff will review grant applications and present the results to the Assistant Secretary who will make the selection of organizations to be awarded grants.

OSHA will give preference to applications that:

• Address multiple safety and health subjects. For example, an application for a Strategic Plan Grant for the food processing target which stresses ergonomic issues as well as other safety and health issues that affect food processing workers would be preferred over one that only addresses ergonomic issues.

• Plan to conduct train-the-trainer programs and gather data concerning the courses and the number of students trained by the new trainers as a part of their grant.

• Train managers and/or supervisors in addition to workers.

• Serve multiple employers. OSHA is interested in reaching more than one employer with each grant awarded.

The following factors will be considered in evaluating grant applications.

1. Program Design

For Strategic Plan Grants

a. The proposed training and education program addresses one of the following topics.

i. Safety and health hazards in construction, including residential construction, especially programs focusing on the four leading causes of fatalities (falls, struck-by, crushed-by, and electrocutions and electrical injuries). Applications proposing training and education programs addressing ergonomic hazards and abatement for the construction industry will also be eligible for consideration.

ii. Safety and health hazards in food processing operations (SIC 20). Preference will be given to programs that target workers and employers in the food processing operations of canning, packaging, freezing, and chopping produce (SIC 203), bakery products (SIC 205), and beverages (SIC 208).

iii. Safety and health hazards in nursing homes (SIC 8051/8052), especially ergonomic hazards.

b. The proposal plans to train workers and/or employers and clearly estimates the numbers to be trained, and clearly identifies the types of workers and employers to be trained.

c. If the proposal contains a train-the-trainer program, the following information must be provided:

—What ongoing support the grantee will provide to new trainers;

—The outline of the course curriculum that will be used by the new trainers to teach their students;

—A schedule of the courses to be conducted by the new trainers;

—The estimated number of students to be trained by these new trainers; and

—A description of how the new trainers will report back to the grantee about their classes and student numbers.

d. The planned activities and training are tailored to the needs and levels of the workers and/or employers to be trained.

e. There is a plan to recruit trainees for the program.

f. If the proposal includes developing educational materials, there is a plan for OSHA to review the materials during development.

g. There is a plan to evaluate the program's effectiveness and impact to determine if the training resulted in workplace change.

h. The planned work can be accomplished in the projected time frames.

i. There is a description of the target population, the hazards that will be addressed, the barriers that have prevented adequate training for the target population, why the program cannot be completed without Federal funds, and why funding sources currently available cannot be used for this purpose.

For Institutional Competency Building Grants

a. The proposed competency building program will provide ongoing safety and health training, education and services. Preference will be given to organizations serving one or more of the following target audiences.

i. Vulnerable workers.

ii. Small business employers and employees.

iii. Workers employed in high hazard industries and in industries affected by new OSHA standards.

b. The application describes the occupational safety and health services and training to be provided and the plan to institutionalize those services into the organization. The first year budget and workplan is detailed and describes planned activities. The summary plan indicates the number of years grant funding will be required to institutionalize safety and health services into the organization and outlines future program goals and activities.

c. Organizations must serve members nationally or in multi-state areas. Information about the geographical area to be served must be provided.

d. The application clearly estimates the numbers of workers and employers to be reached and/or trained, and describes the types of workers and employers to be reached and/or trained.

e. There is a plan to recruit program participants.

f. The planned activities and training are tailored to the needs and levels of the target audience.

g. If the proposal contains a train-the-trainer program, the following information must be provided:

—What ongoing support the grantee will provide to new trainers;

—The outline of the course curriculum that will be used by the new trainers to teach their students;

—A schedule of the courses to be conducted by the new trainers;

—The estimated number of students to be trained by these new trainers; and

—A description of how the new trainers will report back to the grantee about their classes and student numbers.

h. If the proposal includes developing educational materials, there is a plan for OSHA to review the materials during development.

i. There is a plan to evaluate the program's effectiveness and impact to determine if the safety and health services provided resulted in workplace change. This includes a description of the evaluation plan to follow up with trainees to determine the impact the program has had in abating hazards and reducing worker injuries.

j. There is a description of the target population, the hazards that will be addressed, the barriers that have prevented adequate training for the target population, why the program cannot be completed without Federal funds, and why funding sources currently available cannot be used for this purpose.

2. Program Experience

The following elements apply to both types of grants, Strategic Plan Grants and Institutional Competency Building Grants.

a. The organization applying for the grant demonstrates experience with occupational safety and health and/or its ability to develop and institutionalize its safety and health capacity.

b. The organization applying for the grant demonstrates experience training adults in work-related subjects and/or in providing services to its target audience.

c. The staff to be assigned to the project have experience in occupational safety and health, the specific topic chosen, and training adults.

d. The organization applying for the grant demonstrates experience in recruiting, training, and working with the population it proposes to serve under the grant.

3. Administrative Capability

The following elements apply to both types of grants.

a. The applicant organization demonstrates experience managing a variety of programs.

b. The applicant organization has administered, or will work with an organization that has administered, a number of different Federal and/or State grants over the past five years.

c. The application is complete, including forms, budget detail, narrative and workplan, and required attachments.

4. Budget

The following elements apply to both types of grants.

a. The budgeted costs are reasonable.

b. The proposed non-Federal matching share is at least 20% of the total budget for Strategic Plan Grant applications. The proposed non-Federal matching share for the first year is at least 10% of the total budget for Institutional Competency Building Grant applications.

c. The budget complies with Federal cost principles (which can be found in applicable OMB Circulars) and with OSHA budget requirements contained in the grant application instructions.

d. The cost per trainee is less than $500 and the cost per training hour is reasonable.

In addition to the factors listed above, the Assistant Secretary will take other items into consideration, such as the geographical distribution of the grant programs and the coverage of populations at risk.

How Much Money Is Available for Grants?

There is approximately $2.7 million available for the Strategic Plan Grants. The average Federal award will be $150,000.

There is approximately $3 million available for the Institutional Competency Building Grants. The average Federal award will be $250,000. Grants will be awarded annually for competency building programs for periods of up to five years.

How Long Are Grants Awarded For?

1. Strategic Plan Grants. Grants are awarded for a twelve-month period. If first year performance is satisfactory and funds are available, grants will be renewed for an additional twelve-month period.

2. Institutional Competency Building Grants. This multi-year grant program will fund selected organizations for a period of up to five years in order to assist them in developing their safety and health training, education and related assistance capacity. Annual refunding is dependent on satisfactory performance, the availability of funds, and an increasing non-Federal matching share.

How Do I Get a Grant Application Package?

Grant application instructions may be obtained from the OSHA Office of Training and Education, Division of Training and Educational Programs, 1555 Times Drive, Des Plaines, Illinois 60018. The application instructions are also available at http://www.osha-slc.gov/Training/sharwood/sharwood.html.

When and Where Are Applications To Be Sent?

The application deadline is 4:30 p.m. Central Time, Friday, May 19, 2000.

Applications are to be sent to the Division of Training and Educational Programs, OSHA Office of Training and Education, 1555 Times Drive, Des Plaines, IL 60018. Applications may be sent by fax to (847) 297-6636.

How Will I Be Told if My Application Was Selected?

Organizations selected as grant recipients will be notified by a representative of the Assistant Secretary, usually from an OSHA Regional Office. An applicant whose proposal is not selected will be notified in writing.

Notice that an organization has been selected as a grant recipient does not constitute approval of the grant application as submitted. Before the actual grant award, OSHA will enter into negotiations concerning such items as program components, funding levels, and administrative systems. If the negotiations do not result in an acceptable submittal, the Assistant Secretary reserves the right to terminate the negotiation and decline to fund the proposal.

Signed at Washington, DC, this 24th day of March 2000.
Charles N. Jeffress,
Assistant Secretary of Labor.

[FR Doc. 00-8021 Filed 3-30-00; 8:45 am]

BILLING CODE 4510-26-P